DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: January 16, 2015.
Roy E. Wright,
Deputy Associate Administrator for Mitigation, Department of Homeland Security, Federal Emergency Management Agency.

State and county | Location and case No. | Chief executive officer of community | Community map repository | Effective date of modification | Community No.
Arkansas:
Benton (FEMA Docket No.: B-1441) | City of Bentonville (13-06-3762P) | The Honorable Bob McCaslin, Mayor, City of Bentonville, 117 West Central Avenue Bentonville, AR 72712 | 305 Southwest A Street, Bentonville, AR 72712 | Dec. 5, 2014 | 050012
Benton (FEMA Docket No.: B-1441) | Unincorporated areas of Benton County (13-06-3762P) | The Honorable Robert D. Clinard, Benton County Judge, 215 East Central Avenue, Bentonville, AR 72712 | Benton County, 905 Northwest 8th Street, Bentonville, AR 72712 | Dec. 5, 2014 | 050419
Saline (FEMA Docket No.: B-1441) | City of Bryant (14-06-1117P) | The Honorable Jill Dabbs, Mayor, City of Bryant, 210 Southwest 3rd Street, Bryant, AR 72022 | 210 Southwest 3rd Street, Bryant, AR 72022 | Dec. 10, 2014 | 050308
New York:
Onondaga (FEMA Docket No.: B-1432) | Town of Cicero (13-02-1264P) | The Honorable Jessica Zambrano, Supervisor, Town of Cicero, 8236 Brewerton Road, Cicero, NY 13039 | Town Hall, 8236 Brewerton Road, Cicero, NY 13039 | Dec. 9, 2014 | 360572
Oklahoma:
Oklahoma (FEMA Docket No.: B-1441) | City of Edmond (13-06-4532P) | Mr. Larry Stevens, Manager, City of Edmond, P.O. Box 2970, Edmond, OK 73083 | 24 East 1st Street, Edmond, OK 73083 | Dec. 3, 2014 | 400252
Oklahoma (FEMA Docket No.: B-1441) | City of Edmond (13-06-4538P) | Mr. Larry Stevens, Manager, City of Edmond, P.O. Box 2970, Edmond, OK 73083 | 24 East 1st Street, Edmond, OK 73083 | Dec. 3, 2014 | 400252
Oklahoma (FEMA Docket No.: B-1441) | City of Oklahoma City (14-06-0510P) | The Honorable Mick Cornett, Mayor, City of Oklahoma City, 200 North Walker Avenue, 3rd Floor, Oklahoma City, OK 73102 | 420 West Main Street, Suite 700, Oklahoma City, OK 73102 | Dec. 12, 2014 | 405378
Pennsylvania:
Potter (FEMA Docket No.: B-1441) | Township of Portage (14-03-1386P) | The Honorable Norman D. McAfoose, Chairman, Portage Township Board of Supervisors, 23 State Street, Austin, PA 16720 | Portage Township Hall, 986 Costello Road, Austin, PA 16720 | Dec. 4, 2014 | 421985
Texas:
Bexar (FEMA Docket No.: B-1441) | City of San Antonio (14-06-1333P) | The Honorable Ivy R. Taylor, Mayor, City of San Antonio, P.O. Box 839966, San Antonio, TX 78283 | Department of Public Works Storm Water Engineering, 1901 South Alamo Street, 2nd Floor, San Antonio, TX 78204 | Dec. 12, 2014 | 480045
Bexar (FEMA Docket No.: B-1441) | City of San Antonio (14-06-1934P) | The Honorable Ivy R. Taylor, Mayor, City of San Antonio, P.O. Box 839966, San Antonio, TX 78283 | Department of Public Works Storm Water Engineering, 1901 South Alamo Street, 2nd Floor, San Antonio, TX 78204 | Dec. 10, 2014 | 480045
Dallas (FEMA Docket No.: B-1441) | City of Garland (13-06-4550P) | The Honorable Douglas Athas, Mayor, City of Garland, 200 North 5th Street, Garland, TX 75040 | 800 Main Street, Garland, TX 75040 | Dec. 12, 2014 | 485471
Dallas and Denton (FEMA Docket No.: B-1444) | City of Lewisville (14-06-1734P) | The Honorable Dean Ueckert, Mayor, City of Lewisville, P.O. Box 299002, Lewisville, TX 75029 | City Hall, 151 West Church Street, Lewisville, TX 75057 | Dec. 1, 2014 | 480195
Denton (FEMA Docket No.: B-1444) | City of The Colony (14-06-2342P) | The Honorable Joe McCourry, Mayor, City of The Colony, 6800 Main Street, The Colony, TX 75056 | 6800 Main Street, The Colony, TX 75056 | Dec. 15, 2014 | 481581
Denton (FEMA Docket No.: B-1444) | Town of Flower Mound (14-06-0962P) | The Honorable Thomas Hayden, Mayor, Town of Flower Mound, 2121 Cross Timbers Road, Flower Mound, TX 75028 | Engineering Department, 1001 Cross Timbers Road, Suite 3220, Flower Mound, TX 75028 | Dec. 11, 2014 | 480777
Denton (FEMA Docket No.: B-1444) | Unincorporated areas of Denton County (14-06-0224P) | The Honorable Mary Horn, Denton County Judge, 110 West Hickory Street, 2nd Floor, Denton, TX 76201 | Denton County Government Center, 1505 East McKinney Street, Suite 175, Denton, TX 76209 | Dec. 12, 2014 | 480774
Guadalupe (FEMA Docket No.: B-1441) | City of Cibolo (14-06-1171P) | The Honorable Lisa M. Jackson, Mayor, City of Cibolo, 200 South Main Street, Cibolo, TX 78108 | City Hall, 200 South Main Street, Cibolo, TX 78108 | Nov. 28, 2014 | 480267
Harris (FEMA Docket No.: B-1424) | City of Houston (14-06-1647P) | The Honorable Annise D. Parker, Mayor, City of Houston, P. O. Box 1562, Houston, TX 77251 | Floodplain Manager's Office, 1002 Washington Avenue, 3rd Floor, Houston, TX 77002 | Oct. 6, 2014 | 480296
Parker (FEMA Docket No.: B-1441) | City of Weatherford (14-06-0306P) | The Honorable Dennis Hooks, Mayor, City of Weatherford, 303 Palo Pinto Street, Weatherford, TX 76086 | Engineering Department, 303 Palo Pinto Street, Weatherford, TX 76086 | Nov. 28, 2014 | 480522
Parker (FEMA Docket No.: B-1441) | Unincorporated areas of Parker County (14-06-0306P) | The Honorable Mark Riley, Parker County Judge, 1 Courthouse Square, Weatherford, TX 76086 | Parker County Permitting Office, 1114 Santa Fe Drive, Weatherford, TX 76086 | Nov. 28, 2014 | 480520
Tarrant (FEMA Docket No.: B-1444) | City of Fort Worth (14-06-1000P) | The Honorable Betsy Price, Mayor, City of Fort Worth, 1000 Throckmorton Street, Fort Worth, TX 76102 | Department of Transportation and Public Works, 1000 Throckmorton Street, Fort Worth, TX 76102 | Dec. 17, 2014 | 480596
Wagoner (FEMA Docket No.: B-1437) | City of Wagoner (14-06-0309P) | The Honorable James Jennings, Mayor, City of Wagoner, P.O. Box 406 Wagoner, OK 74477 | Wagoner County, 306 East Cherokee Street, Wagoner, OK 74467 | Nov. 28, 2014 | 400219
Wagoner (FEMA Docket No.: B-1437) | Unincorporated areas of Wagoner County (14-06-0309P) | The Honorable James Hanning, Chairman, Wagoner County Commissioners, P.O. Box 156 Wagoner, OK 74477 | Wagoner County, 306 East Cherokee Street, Wagoner, OK 74467 | Nov. 28, 2014 | 400215

[FR Doc. 2015-02496 Filed 2-6-15; 8:45 am]

BILLING CODE 9110-12-P